DEPARTMENT OF COMMERCE

Foreign-Trade Zones Board

[B-17-2018]

Foreign-Trade Zone (FTZ) 21—Charleston, South Carolina; Authorization of Production Activity; AGRU America Charleston, LLC; (High Density Polyethylene Pipe); North Charleston, South Carolina

On March 5, 2018, AGRU America Charleston, LLC (AGRU America) submitted a notification of proposed production activity to the FTZ Board for its facility within FTZ 21—Site 38,¹ in North Charleston, South Carolina.

¹ The Notification of Proposed Production Activity mistakenly identified the site number as Site 5, instead of Site 38. See 83 FR 10657 (March 12, 2018).

The notification was processed in accordance with the regulations of the FTZ Board (15 CFR part 400), including notice in the Federal Register inviting public comment (83 FR 10657, March 12, 2018). On July 3, 2018, the applicant was notified of the FTZ Board's decision that no further review of the activity is warranted at this time. The production activity described in the notification was authorized, subject to the FTZ Act and the FTZ Board's regulations, including Section 400.14.

Dated: July 3, 2018.
Elizabeth Whiteman,
Acting Executive Secretary.

[FR Doc. 2018-14619 Filed 7-6-18; 8:45 am]

BILLING CODE 3510-DS-P